DEPARTMENT OF AGRICULTURE

Forest Service

Rogue River-Siskiyou National Forest and Umpqua National Forest; Oregon; Stella Landscape Restoration Project

AGENCY: Forest Service, USDA.

ACTION: Notice of intent to prepare an Environmental Impact Statement.

SUMMARY: The USDA Forest Service, Rogue River-Siskiyou National Forest (RRSNF), High Cascade Ranger District, is providing notice that it will prepare an Environmental Impact Statement (EIS) for the Stella Landscape Restoration Project (Project), which would implement multiple landscape restoration actions on National Forest System lands within an approximately 64,000-acre project planning area. Restoration actions include vegetation treatments, prescribed fire, sustainable recreation, and sustainable roads actions. Included in the project area is approximately 4,000 acres on the Umpqua National Forest, in the Huckleberry Special Interest Area, which is adjacent to the RRSNF. Only non-commercial activities are proposed on the Umpqua National Forest. In order to implement the Project, the RRSNF also identified the need for a project-specific amendment to the Rogue River Land and Resource Management Plan to exempt the Big Game Winter Range Management Strategy from the thermal cover requirement.

DATES: Comments concerning the scope of the analysis must be received by June 11, 2018. The Draft Environmental Impact Statement (DEIS) is expected in spring of 2019 and the Final Environmental Impact Statement (FEIS) is expected in spring of 2020.

ADDRESSES: Send written comments to David Palmer, District Ranger, High Cascade Ranger District, 47201 Hwy. 62, Prospect, OR 97536. Comments may be submitted electronically at comments-pacificnorthwest-rogueriver-highcascades@fs.fed.us. Comments may also be sent via facsimile to 541-247-3641 or submitted in person during regular business hours, Monday-Friday, 8:00 a.m.-4:30 p.m. at the address listed above.

FOR FURTHER INFORMATION CONTACT: Anne Trapanese, Environmental Coordinator atrapanese@fs.fed.us, 541-560-3433.

Individuals who use telecommunication devices for the deaf may call the Federal Information Relay Service at 1-800-877-8339 between 8 a.m. and 8 p.m., Eastern Time, Monday through Friday.

SUPPLEMENTARY INFORMATION:

Purpose and Need

The purpose and need for this project includes the need to restore forest resiliency by reestablishing forest structure and pattern, vegetation composition and diversity, and riparian communities to conditions that are more resilient to natural disturbance processes. Comparison of the existing condition with the desired condition indicates the specific need to reduce risk of habitat degradation and loss from uncharacteristic wildfire and/or insect and disease outbreak. There is a need to maintain and improve habitat for fish and wildlife species and sustain and enhance northern spotted owl habitat to aid in recovery.

Additionally, there is a need to conserve and restore culturally significant plants and maintain habitat for rare plant populations. There is a need within the project area to provide for a variety of social and cultural values and opportunities, such as huckleberry picking and hunting. There is a need to contribute to the RRSNF probable sale quantity target, and a need to restore and provide a sustainable road and trail transportation system.

Proposed Action

This project proposes approximately 23,000 acres of variable density thinning, 3,000 acres of plantation thinning, and 5,500 acres of non-commercial plantation thinning for a total of 31,500 acres of vegetation treatment. Thinning of natural stands and managed stands, along with application of prescribed fire, would be the primary restoration actions for pines and plantation units. Thinning in pure Douglas fir stands would allow for the growth of large trees in the future. Changes in road maintenance levels and road decommissioning would address water quality concerns, provide for wildlife needs, and move towards a sustainable road system.

Approximately 13,000 acres of special habitat restoration are proposed. The special habitat restoration would use primarily non-commercial mechanical treatment to restore a variety of different habitats. The restoration treatments would benefit huckleberry, aspen, meadow, oak, and legacy pine.

Forty-two miles of stream restoration are proposed within the project area. Stream restoration would utilize large wood and rock placement in fish bearing streams to restore habitat. These structures improve the complexity and function of instream habitat. The culverts targeted for replacement would allow all life stages of aquatic organisms to pass. The current culverts in these locations do not allow this.

The recreation proposals include installing modern vault style outhouses at Woodruff Day Use area. The existing outhouses at this popular day use site are cemented culverts that may not hold up over time, and could have a negative impact on water quality. This is necessary to maintain and improve fish habitat, of which water quality is an important component. The Off-Highway Vehicle (OHV) trail re-route would take existing trail off of mixed use maintenance level 2 roads and place it on maintenance level 1 roads to improve safety for riders.

The proposed action includes decommissioning approximately 40 miles of roads and changing 64 miles of roads to maintenance level 1. The proposed changes to road maintenance levels and decommissioning will make the current transportation system more sustainable. Many of these roads are currently being managed at a lower maintenance level on the ground, or are already part of the OHV Trail system. Some of these roads have been identified as likely not needed in Subpart A of Travel Management (36 CFR 212, Subpart A).

A project specific forest plan amendment is also likely needed to accomplish restoration actions within Management Strategy 14, Big Game Winter Range. This amendment would exempt the project from the requirement for thermal cover over “50 percent of 500-1000 acre analysis areas.” The amendment would apply to the 7,984 acres in this Management Strategy in the project area. This amendment would be the only exemption to Plan standards, and all other standards and guidelines would be unaffected; it would only apply to the RRSNF. When proposing a Forest Plan amendment, the 2012 planning rule (36 CFR 219), as amended, requires the responsible official to provide in the initial notice “which substantive requirements of § 219.8 through 219.11 are likely to be directly related to the amendment” (§ 219.13(b)(2)). Whether a rule provision is likely to be directly related to an amendment is determined by any one of the following: The purpose for the amendment, the beneficial effects of the amendment, and the substantial adverse effects of the amendment, as informed by the best available scientific information, scoping, effects analysis, monitoring data or other rationale. Based on this amendment proposal and requirements of the planning rule, the following substantive requirements of 36 CFR 219 would likely be directly related to the proposed amendment: 36 CFR 219.10(a)(1) Aesthetic values, cultural and heritage resources, ecosystem services, fish and wildlife species, forage, grazing and rangelands, habitat and habitat connectivity, recreation settings and opportunities, riparian areas, scenery, soil, surface water quality, timber, vegetation, viewsheds; and (a)(5) Habitat conditions, subject to the requirements of 36 CFR 219.9, for wildlife, fish, and plants commonly enjoyed and used by the public; for hunting, fishing, trapping, gathering, observing, subsistence, and other activities (in collaboration with federally recognized Tribes, Alaska Native Corporations, other Federal agencies, and State and local governments).

Possible Alternatives

The Project will analyze no action, the proposed action, and additional alternatives developed during the evaluation period that respond to issues generated throught the scoping process. The agency will give notice of the full environemental analysis and decision making process so interested and affected parties may participate and contribute to the final decision.

Responsible Official

The responsible officials for this decision will be the Forest Supervisor for the RRSNF and the Forest Supervisor for the Umpqua National Forest.

Nature of Decision To Be Made

The Forest Supervisors will decide where, and whether or not, to take action to meet desired conditions within the planning area. The responsible officials also will decide how to mitigate any potential impacts of these actions and will determine when and how possible effects monitoring would take place. The final Project decision and rationale will be documented in a Record of Decision supported by a Final EIS.

Per 36 CFR 218.7(a)(2), this is a project proposing to implement a land management plan and is not authorized under the Healthy Forests Restoration Act (HFRA). Therefore, it is subject to both subparts A and B of 36 CFR 218, Project-level Predecisional Administrative Review Process. This administrative review process also applies to the project-specific amendment, consistent with 36 CFR 219.59. Only those who submit timely and specific written comments regarding the proposed project or activity during a public comment period established by the responsible official are eligible to file an objection § 218.24(b)(6). The publication date of the NOI in the Federal Register is the exclusive means for calculating this scoping period. For issues to be raised in objections, they must be based on previously submitted specific written comments regarding the proposed project or activity and attributed to the objector.

Scoping Process

This notice of intent initiates the scoping process, which guides the development of the EIS. It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered.

Documents related to information in this notice are available for review at: http://www.fs.fed.us/nepa/nepa_project_exp.php?project=5324.

Dated: April 20, 2018.
Chris French,
Associate Deputy Chief, National Forest System.

[FR Doc. 2018-10029 Filed 5-10-18; 8:45 am]

BILLING CODE 3411-15-P